DEPARTMENT OF HEALTH AND HUMAN SERVICES

Centers for Disease Control and Prevention

[Program Announcement 02041]

Traumatic Injury Biomechanics Research; Notice of Availability of Funds; Amendment

A notice announcing the availability of Fiscal Year 2002 funds to fund grants for Injury Prevention and Control Research in the priority areas of Injury and Violence Prevention which was published in the Federal Register on February 28, 2002, (Volume 67, No. 40, pages 9289-9292). The notice is amended as follows:

On page 9289, second column, under Section A. Purpose, first paragraph (number 1.), line 4 should be changed from ”* * *Programmatic Interests.” to ”* * *Program Requirements.”

On page 9289, second column, under Section B. Eligible Applicants, first paragraph, line 3, insert after “organizations” “, including public and nonprofit faith-based organizations,* * *”

On page 9289, third column, under Section B. Eligible Applicants, third paragraph (number 5.), line 5, should be changed from ”* * * Programmatic Interests.” to “* * * Program Requirements.”

On page 9289, third column, under Section C. Availability of Funds, first paragraph, line 7 should be changed from “* * * Programmatic Interests.” to “* * * Program Requirements.”

On page 9290, third column, under Section F. Submission and Deadline, third paragraph, line 1, should be changed to read “On or before May 6, 2002 * * *”

Dated: March 29, 2002.
Michael J. Detmer,
Branch Chief, Acquisition and Assistance Branch A, Procurement and Grants Office, Centers for Disease Control and Prevention (CDC).

[FR Doc. 02-8020 Filed 4-2-02; 8:45 am]

BILLING CODE 4163-18-P